DEPARTMENT OF HOMELAND SECURITY

[Docket No. DHS-2013-0065]

Agency Information Collection Activities: Submission for Review; Information Collection Request for the Department of Homeland Security (DHS), Science and Technology, National Capital Region Secure Delivery Technology Program

AGENCY: Science and Technology Directorate, DHS.

ACTION: 60-day notice and request for comment.

SUMMARY: The Department of Homeland Security (DHS), Science & Technology Directorate (S&T) invites the general public to comment on data collection forms for the National Capital Region (NCR) Secure Delivery Technology program. This is a new Paper Reduction Act collection without an OMB control number. Secure Delivery Technology is responsible for improving the efficiency and effectiveness of deliveries to General Services Administration (GSA) facilities in the NCR.

Information collected by Federal Protective Service (FPS) personnel to ensure secured deliveries in the NCR includes the delivery driver's name and license number. The information collected is used by FPS personnel to verify the identity of the driver at the delivery central screening facility and final destination locations, along with providing an auditable trail for post-delivery analysis should an event occur that requires forensics.

DHS invites interested persons to comment on the “National Capital Region Secure Delivery Technology Driver Log” form and instructions (hereinafter “Forms Package”) for the S&T NCR Secure Delivery Technology. Interested persons may receive a copy of the Forms Package by contacting the DHS S&T PRA Coordinator. This notice and request for comments is required by the Paperwork Reduction Act of 1995 (Pub. L. 104-13, 44 U.S.C. chapter 35).

DATES: Comments are encouraged and will be accepted until April 14, 2014.

ADDRESSES: Interested persons are invited to submit comments, identified by docket number DHS-2013-0065, by one of the following methods:

• Federal eRulemaking Portal: http://www.regulations.gov. Please follow the instructions for submitting comments.

• Email: Jonathan.Mcentee@hq.dhs.gov. Please include docket number DHS-2013-0065 in the subject line of the message.

• Mail: Science and Technology Directorate, ATTN: National Capital Region Secure Delivery Technology program, 245 Murray Drive, Mail Stop 0202, Washington, DC 20528.

FOR FURTHER INFORMATION CONTACT: Jonathan Mcentee, Jonathan.Mcentee@hq.dhs.gov, 202-254-6139. (Not a toll free number).

SUPPLEMENTARY INFORMATION: The Department is committed to improving its information collection and urges all interested parties to suggest how these materials can further reduce burden while seeking necessary information under the Paper Reduction Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: This is a new collection.

(2) Title of the Form/Collection: Science and Technology, National Capital Region Secure Delivery Technology program.

(3) Agency Form Number, if any, and the applicable component of the Department of Homeland Security sponsoring the collection: [No form name]; Department of Homeland Security, Science & Technology Directorate, Borders and Maritime Security Division.

(4) Affected public who will be asked or required to respond, as well as a brief abstract: Drivers of deliveries to GSA facilities in the NCR are required to provide their names and driver's license to FPS personnel to bind the individual driver to the package being delivered, and any other data associated with the delivery for security purposes.

(5) An estimate of the total number of respondents and the amount of time estimated for an average respondent to respond:

a. Estimate of the total number of respondents: FPS contracts approximately ten (10) Protective Security Officers who are monitored by one (1) FTE to capture the driver and delivery information.

b. An estimate of the time for an average respondent to respond: FPS personnel spend approximately five (5) minutes per delivery to capture the requisite information.

c. An estimate of the total public burden (in hours) associated with the collection: There is no burden on the public for the information capture—FPS personnel capture the data in parallel with other FPS personnel screening the delivery truck. It is estimated six-thousand (6,000) staff hours will be saved by automating the management of the information being captured.

Dated: January 7, 2014.
Rick Stevens,
Chief Information Officer for Science and Technology.

[FR Doc. 2014-03172 Filed 2-12-14; 8:45 am]

BILLING CODE 9110-9F-P